DEPARTMENT OF AGRICULTURE

National Institute of Food and Agriculture

Notice of Intent To Extend and Revise a Currently Approved Information Collection

AGENCY: National Institute of Food and Agriculture, USDA.

ACTION: Notice and request for comments.

SUMMARY: In accordance with the Paperwork Reduction Act of 1995, this notice announces the National Institute of Food and Agriculture's (NIFA) intention to extend a currently approved information collection entitled, “Reporting Requirements for State Plans of Work for Agricultural Research and Extension Capacity Funds.”

DATES: Written comments on this notice must be received by September 22, 2015 to be assured of consideration. Comments received after that date will be considered to the extent practicable.

ADDRESSES: Written comments concerning this notice and requests for copies of the information collection may be submitted by any of the following methods: Email: rmartin@nifa.usda.gov; Fax: 202-720-0857; Mail: Office of Information Technology (OIT), NIFA, USDA, STOP 2216, 1400 Independence Avenue SW., Washington, DC 20250-2216.

FOR FURTHER INFORMATION CONTACT: Robert Martin, eGovernment Program Leader; Email: rmartin@nifa.usda.gov.

SUPPLEMENTARY INFORMATION: Title: Reporting Requirements for State Plans of Work for Agricultural Research and Extension Capacity Grants.

Office of Management and Budget (OMB) Number: 0524-0036.

Expiration Date of Current Approval: January 1, 2016.

Type of Request: Notice of intent to extend and revise the submission requirements for a currently approved information collection. The burden for this submission remains unchanged.

Abstract: Type of Request: Intent to seek approval for the extension of a currently approved information collection for three years.

Abstract: The purpose of this collection of information is to continue implementing the requirements of sections 202 and 225 of the Agricultural Research, Extension, and Education Reform Act of 1998 (AREERA) which require that a plan of work must be submitted by each institution and approved by the National Institute of Food and Agriculture (NIFA) before capacity funds may be provided to the 1862 and 1890 land-grant institutions.

The capacity funds are authorized under the Hatch Act for agricultural research activities at the 1862 land-grant institutions, under the Smith-Lever Act for the extension activities at the 1862 land-grant institutions, and under sections 1444 and 1445 of the National Agricultural Research, Extension, and Teaching Policy Act of 1977 for research and extension activities at the 1890 land-grant institutions. The plan of work must address critical agricultural issues in the State and describe the programs and projects targeted to address these issues using the NIFA capacity funds. The plan of work also must describe the institution's multistate activities as well as their integrated research and extension activities.

This collection of information also includes the reporting requirements of section 102(c) of AREERA for the 1862 and 1890 land-grant institutions. This section requires the 1862, 1890, and 1994 land-grant institutions receiving agricultural research, education, and extension capacity funds from NIFA of the Department of Agriculture (USDA) to establish and implement processes for obtaining input from persons who conduct or use agricultural research, extension, or education concerning the use of such funds by October 1, 1999.

Section 102(c) further requires that the Secretary of Agriculture promulgate regulations that prescribe what the institutions must do to meet this requirement and the consequences of not complying with this requirement. The Stakeholder Input Requirements for Recipients of Agricultural Research, Education, and Extension Capacity Funds (7 CFR part 3418) final rule (65 FR 5993, Feb. 8, 2000) applies not only to the land-grant institutions receiving capacity funds but also to the veterinary and forestry schools that are not land-grant institutions but receive forestry research funds under the McIntire-Stennis Act of 1962 and animal health and disease research funds under section 1433 of the National Agricultural Research, Extension, and Teaching Policy Act of 1977 (NARETPA). Failure to comply with the requirements of this rule may result in the withholding of a recipient institution's capacity funds and redistribution of its share of capacity funds to other eligible institutions. The institutions are required to annually report to NIFA: (1) The actions taken to seek stakeholder input to encourage their participation; (2) a brief statement of the process used by the recipient institution to identify individuals and groups who are stakeholders and to collect input from them; and (3) a statement of how collected input was considered. There is no legislatively prescribed form or format for this reporting requirement. However, the 1862 and 1890 land-grant institutions are required to report on their Stakeholder Input Process annually as part of their Annual Report of Accomplishments and Results.

Section 103(e) of AREERA requires that the 1862, 1890, and 1994 land-grant institutions establish a merit review process, prior to October 1, 1999, in order to obtain agricultural research and extension funds. Section 104 of AREERA also stipulated that a scientific peer review process be established for research programs funded under section 3(c)(3) of the Hatch Act (commonly referred to as Hatch Multistate Research Funds).

I. Initial 5-Year Plan of Work

Estimate of Burden: The Initial 5-Year Plan of Work was submitted for the FY 2007-2011 Plan of Work in 2006. Thus, this reporting burden has been satisfied and will no longer be collected. Consequently, the total reporting and record keeping requirements for the submission of the “Initial 5-Year Plan of Work” is estimated to average 0 hours per response.

II. Annual Update to 5-Year Plan of Work

Estimate of the Burden: The total reporting and record keeping requirements for the submission of the “Annual Update to the 5-Year Plan of Work” is estimated to average 64 hours per response. There are five components of this “5-Year Plan of Work”: “Planned Programs,” “Stakeholder Input Process,” “Program Review Process,” “Multi state Activities,” and “Integrated Activities.”

Estimated Number of Respondents: 75.

Estimated Number of Responses: 150.

Estimated Total Annual Burden on Respondents: 9,600 hours.

Frequency of Responses: Annually.

III. Annual Report of Accomplishments and Results

Estimate of the Burden: The total annual reporting and record keeping requirements of the “Annual Report of Accomplishments and Results” is estimated to average 260 hours per response.

Estimated Number of Respondents: 75.

Estimated Number of Responses: 150.

Estimated Total Annual Burden on Respondents: 39,000 hours.

Frequency of Responses: Annually.

Comments: Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Done in Washington, DC, this 10th day of July, 2015.
Ann Bartuska,
Deputy Under Secretary, Research, Education, and Economics.

[FR Doc. 2015-18058 Filed 7-23-15; 8:45 am]

BILLING CODE 3410-22-P